COMMITTEE FOR PURCHASE FROM PEOPLE WHO ARE BLIND OR SEVERELY DISABLED

Addition to Procurement List: Correction

In the document appearing on page 58379, FR document 99-28359, in the issue of October 29, 1999, in the first column, the listing for Food Service, Marine Corps, Mess Hall #569 and 1620, San Diego, California should have been listed as Food Service, Marine Corps, Mess Halls #569 and 620, San Diego, California.

Louis R. Bartalot,
Deputy Director (Operations).

[FR Doc. 00-2492 Filed 2-3-00; 8:45 am]

BILLING CODE 6353-01-P